DEPARTMENT OF DEFENSE

Office of the Secretary

[Docket ID DOD-2010-OS-0125]

Privacy Act of 1974; System of Records

AGENCY: Defense Commissary Agency.

ACTION: Notice to add a system of records.

SUMMARY: The Defense Commissary Agency proposes to add a system of records to its inventory of records systems subject to the Privacy Act of 1974 (5 U.S.C. 552a), as amended.

DATES: This proposed action would be effective without further notice on October 25, 2010, unless comments are received which result in a contrary determination.

ADDRESSES: You may submit comments, identified by docket number and title, by any of the following methods:

• Federal Rulemaking Portal: http://www.regulations.gov. Follow the instructions for submitting comments.

• Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Camillo R. DeSantis at (804) 734-8000, x48116.

SUPPLEMENTARY INFORMATION: The Office of the Secretary of Defense notices for systems of records subject to the Privacy Act of 1974 (5 U.S.C. 552a), as amended, have been published in the Federal Register and are available from the Privacy Officer, Office of General Counsel, Defense Commissary Agency, 1300 E Avenue, Fort Lee, VA 23801-1800.

The proposed system report, as required by 5 U.S.C. 552a(r) of the Privacy Act of 1974, as amended, was submitted on September 13, 2010, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996; 61 FR 6427).

Dated: September 20, 2010.
Mitchell S. Bryman,
Alternate OSD Federal Register Liaison Officer, Department of Defense.

ZDO-001

System name:

Accountability Records/Recall Rosters

System locations:

Defense Commissary Agency (DeCA), 1300 E Avenue, Fort Lee, VA 23801-1800.

DeCA East, 1300 E Avenue, Fort Lee, VA 23801-1800.

DeCA West, 3401 Acacia Street, Suite 115, McClellan, CA 95652-1002.

DeCA Europe, Building 2780, Unit 3060, APO, AE, 09021.

DeCA Facilities Construction and Sustainment Division (DOF), 2250 Foulois Street, Suite 2, Lackland AFB, TX 78236-1039.

DeCA Construction-Design Branch (AMDF), 2250 Foulois Street, Suite 2, Lackland AFB, TX 78236-1046.

DeCA Zones, Central Distribution Centers (CDC), Central Meat Processing Plants (CMPP) and Stores—A complete listing of zone, CDC, CMPP and store locations at which recall rosters are maintained can be obtained at Headquarters, Defense Commissary Agency, Attn: Continuity Program Manager, 1300 E Avenue, Fort Lee, VA 23801-1800.

Categories of individuals covered by the system:

Current DeCA Federal employees, military personnel assigned or detailed to DeCA, contractors at the headquarters, region, zone, and store level. Non-DeCA personnel whose job responsibilities include a requirement to be aware of the status of DeCA and its commissaries, including Department of Defense (DoD) Federal employees, military service personnel not assigned to DeCA, personnel of the military service exchange services (Army Air Force Exchange Service (AAFES)/Navy Exchange Service Command (NEXCOM)/Marine Corps Exchange (MCX)/Coast Guard Exchange System (CGES) personnel). Additional information maintained in the system includes DeCA business partner's personnel that include personnel of contractors, manufacturers, vendors, brokers and distributors doing business with DeCA).

Categories of records in the system:

First and last name, organization consisting of division/staff office/region/zone/store;, mission essential status, designated Emergency Operations Center (EOC) duty officer status, Emergency Relocation Group status, job title, work, home, personal and government cell phone, home address (including directions to facilitate location), home e-mail address, telework status, name of emergency contact not residing in the employee's household, emergency contact's home address (including directions to facilitate location), phone number or e-mail address of emergency contact.

Authority for maintenance of the system:

5 U.S.C. 301, Departmental regulations; 10 U.S.C. 136, Under Secretary of Defense for Personnel and Readiness; 10 U.S.C. 147, Commissaries and Exchanges and Other Morale, Welfare, and Recreation Activities; National Security and Homeland Security Presidential Directive-51/Homeland Security Presidential Directive-20, National Continuity Policy; Department of Defense Directive 3020.26, Department of Defense Continuity Programs; and Department of Defense Instruction 3001.02, Personnel Accountability in Conjunction with Natural or Manmade Disasters.

Purpose(s):

To notify designated DeCA mission essential personnel, Emergency EOC duty officers/members, Emergency Relocation Group members, and other DeCA personnel, including those on pre-designated telework status to report for duty during drills, emergencies, activation of the EOC, and/or Continuity of Operations (COOP) exercises or operations.

To contact DeCA personnel during emergency situations in order to notify them of the status of their place of duty and to determine their current location and current health, welfare and safety status.

To contact designated emergency contacts of DeCA personnel in the event efforts to contact personnel failed and the current location, health, welfare and safety status of employee cannot be determined.

To communicate with non-DeCA personnel whose job responsibilities include a requirement to be aware of the status of DeCA and its commissaries, including Department of Defense (DoD) civilian personnel, military service personnel not assigned to DeCA, personnel of the military service exchange services (Army Air Force Exchange Service (AAFES)/Navy Exchange Service Command (NEXCOM)/Marine Corps Exchange (MCX)/Coast Guard Exchange System (CGES) personnel), and DeCA business partners personnel that includes personnel of contractors, manufacturers, vendors, brokers and distributors doing business with DeCA.

To communicate with DeCA and non-DeCA personnel during non-duty hours as necessary to facilitate management and business functions required for the administration of a 24/7, worldwide organization.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

To Federal, state, or local governments during actual emergencies, exercises or continuity of operations tests for the purpose of responding to emergency situations.

The DoD `Blanket Routine Uses' set forth at the beginning of the Defense Commissary Agency's compilation of systems of records notices apply to this system.

Policies and practices for storing, retrieving, accessing, retaining, and disposing of records in the system:

Storage:

Paper file folders and electronic storage media.

Retrievability:

Records are retrieved by name, organization, mission essential status, emergency relocation group status, telework status or emergency operations duty officer/member status.

Safeguards:

Electronic records are maintained in password-protected network and accessible only to DeCA personnel, management, and administrative support personnel on a need-to-know basis to perform their duties. Access to the network where records are maintained requires a valid Common Access Card (CAC). Electronic files and databases are password protected with access restricted to authorized users. Paper records are secured in locked cabinets, offices, or buildings during non-duty hours. The same security standards currently applied to individually issued CAC cards are applicable to paper compilations limited to a particular organization issued to individual supervisors, managers and employees of that organization.

Retention and disposal:

Records are destroyed upon termination/departure of DeCA personnel or when superseded. Electronic records are manually deleted from the agency virtual file cabinet under the supervision of agency records managers upon supersession of the record. Paper records are shredded using a cross-cut shredder that reduces the records to confetti form or better upon supersession of the record.

System manager(s) and address:

Director, Performance and Policy and Component Continuity Coordinator, 1300 E Avenue, Fort Lee, VA 23801-1800.

Notification procedure:

Individuals seeking to determine whether information about themselves is contained in this system should address written inquiries to the Privacy Act Officer, DeCA, 1300 E Avenue, Fort Lee, VA 23801-1800.

Requests should contain name, home address and home phone number for positive identification of requester.

Record access procedures:

Individuals seeking access to records about themselves contained in this system of records should address written inquiries to the Privacy Act Officer, DeCA, 1300 E Avenue, Fort Lee, VA 23801-1800.

Requests should contain name, home address and home phone number for positive identification of requester.

Contesting record procedures:

The DeCA rules for accessing records, for contesting contents, and appealing initial agency determinations are contained in 32 CFR part 327, or may be obtained from the system manager.

Record source categories:

The individual, supervisors, existing databases (i.e. Defense Civilian Personnel Data (DCPDS), Fouth Estate Personnel Accountability and Assessment System (FEPAAS), Defense Logistics Agency (DLA) and Office of Personnel Management (OPM) Electronic Official Personnel File (eOPF)), computer access or information security documentation.

Exemptions claimed for the system:

None.

[FR Doc. 2010-23876 Filed 9-23-10; 8:45 am]

BILLING CODE 5001-06-P